DEPARTMENT OF HEALTH AND HUMAN SERVICES

Solicitation for Written Comments on the Proposed Changes to Healthy People 2010 Through the Midcourse Review

AGENCY: Department of Health and Human Services, Office of the Secretary, Office of Public Health and Science.

ACTION: Notice.

Authority: 42 U.S.C. 200u.

SUMMARY: The Office of Disease Prevention and Health Promotion (ODPHP), Office of Public Health and Science (OPHS), U.S. Department of Health and Human Services (HHS), acting on behalf of HHS and its lead agencies, as part of the process of conducting the Midcourse Review of Healthy People 2010, is soliciting written comments for consideration on changes and revisions proposed to the Healthy People 2010 objectives. Healthy People 2010, a set of national health objectives, was published by HHS in 2000. The Midcourse Review (MCR), conducted at the midpoint of the decade, is the process through which the Healthy People 2010 objectives are reviewed by HHS, the lead agencies, and other experts, to assess the data trends during the first half of the decade, consider new science and available data, and make changes that ensure that Healthy People 2010 remains current, accurate, and relevant. The proposed revisions take the form of: establishing baselines and targets for formerly developmental objectives (i.e., objectives that had no baseline data or target when Healthy People 2010 was released in 2000); changes to the language of objectives and subobjectives; deletions of objectives and subobjectives; new subobjectives; and baseline and target revisions.

DATES: Written comments must be submitted via the Internet Web site by the close of business Eastern Standard Time on September 15, 2005.

ADDRESSES: The proposed revisions to Healthy People 2010 objectives can be viewed and commented on at http://www.healthypeople.gov/data/midcourse.

FOR FURTHER INFORMATION CONTACT: E-mail the Office of Disease Prevention and Health Promotion, Office of Public Health and Science, U.S. Department of Health and Human Services, at hp2010@osophs.dhhs.gov.

SUPPLEMENTARY INFORMATION: Background: HHS has led a nationwide process to formulate and monitor national disease prevention and health promotion objectives since 1979. The Healthy People initiative began in 1979 with Healthy People: The Surgeon General's Report on Health Promotion and Disease Prevention, which presented general goals for reducing preventable death and injury in different age groups by 1990. These general goals were followed in 1980 by the publication of Promoting Health/Preventing Disease: Objectives for the Nation, which identified five overarching goals supported by a set 226 objectives organized in 15 strategic areas to be achieved by 1990. The five goals targeted mortality and morbidity for five distinct age groups.

In 1990, HHS published Healthy People 2000, which established three overarching goals and contained 319 objectives in 22 priority areas. The Healthy People 2000 goals were (1) increase the span of healthy life, (2) reduce health disparities, and (3) provide access to preventive health services.

Building on the experiences of the first two decades of objectives, public hearings, and a public comment process that generated more than 11,000 public comments, in January 2000, HHS issued Healthy People 2010, the third generation of 10-year disease prevention and health promotion objectives for the Nation. Healthy People 2010 is a comprehensive set of national health objectives, based on science, for the first decade of the 21st century. It identifies two overarching goals (i.e., increase the quality and years of healthy life, and eliminate health disparities) that are supported by 467 objectives in 28 focus areas. For more information about Healthy People 2010 and its history, visit the Healthy People 2010 Internet Web site at http://www.healthypeople.gov.

Through the Healthy People 2010 Midcourse Review, the lead agencies for the 28 Healthy People 2010 focus areas have proposed revisions to the Healthy People 2010 objectives that are now available for public review and comment. Public comment on the objectives will be considered by the appropriate lead agencies. ODPHP, within the OPHS, serves as the overall coordinator for the dissemination and processing of the public comments.

A new HHS report entitled Healthy People 2010 Midcourse Review, featuring the revisions and a status report on progress from 2000 to 2005 toward achieving the targets for the year 2010, is scheduled for publication in 2006.

Electronic Comments: By this notice, on behalf of HHS and its lead agencies, ODPHP is soliciting the submission of electronic comments for consideration on changes and revisions proposed to the Healthy People 2010 objectives as a result of the Midcourse Review process. The public is invited to comment through the Internet Web site on: Objectives and subobjectives that are moving from developmental to measurable objective status; objectives and subobjectives with revisions to their overall language; the deletion of objectives and subobjectives; the addition of new subobjectives; the establishment of new baselines, targets, and target setting methods; and changes to data sources. Written comments received in response to this notice will be reviewed and considered by the lead agencies for the objectives to which they pertain.

Dated: August 12, 2005.
Penelope S. Royall,
CAPT, USPHS, Deputy Assistant Secretary for Health (Disease Prevention and Health Promotion).

[FR Doc. 05-16047 Filed 8-11-05; 8:45 am]

BILLING CODE 4150-32-U